DEPARTMENT OF ENERGY

Federal Energy Regulatory Commission

[Docket No. RP14-638-000; Docket No. CP14-125-000; Docket No. CP14-126-000]

Atmos Energy Corporation v. American Midstream (Midla) LLC, American Midstream (Midla) LLC, American Midstream (Midla) LLC; Notice of Intent To Convene Meeting and Setting Dates for Meeting

On March 24, 2014, in Docket No. RP14-638-000, Atmos Energy Corporation (Atmos) filed a complaint against American Midstream (Midla) LLC (Midla) alleging, among other things, that Midla's open season notice and process violate the requirements of section 7(b) of the Natural Gas Act. On March 28, 2014, in Docket No, CP14-125-000, Midla filed an application under section 7(b) of the NGA to abandon segments of its jurisdictional pipeline that are currently used to provide service to Atmos, as well as other shippers. Concurrently, Midla filed a prior notice filing in Docket No. CP14-126-000 requesting to abandon the remainder of its jurisdictional pipeline by sale to an affiliate. Midla and Atmos have contacted the Dispute Resolution Division about alternative dispute resolution (ADR) requesting to arrange a meeting among Midla, Atmos and other interested parties regarding the issues raised in these proceedings.

The Commission's Director of the Dispute Resolution Division will conduct a meeting on May 29 and May 30, 2014 commencing on May 29 at 10 a.m. in Hearing Room 7 and on May 30 at a time to be determined in Conference Room 2M-A/B at the Federal Energy Regulatory Commission, 888 First Street NE., Washington, DC. The meeting will cover the ADR process. The Dispute Resolution Division will also assist the parties in better identifying and clarifying the issues in the above-captioned dockets and in fostering negotiations among the parties to determine whether agreement using ADR can be achieved. If a party has any questions and for access to the building, please contact Dispute Resolution Division, Support Specialist, Sara Klynsma, at (202) 502-8259.

Dated: May 22, 2014.
Kimberly D. Bose,
Secretary.

[FR Doc. 2014-12872 Filed 6-3-14; 8:45 am]

BILLING CODE 6717-01-P